NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Deputy Associate Administrator, Office Mission Support Directorate, NASA Headquarters, Washington, DC 20546.

FOR FURTHER INFORMATION CONTACT: Cheryl E. Parker, (202) 358-0252.

SUPPLEMENTARY INFORMATION: OMB guidelines dated August 13, 2015, “Fall 2015 Data Call for the Regulatory Plan and Unified Agenda of Federal Regulatory and Deregulatory Actions,” require a regulatory agenda of those regulations under development and review to be published in the Federal Register each spring and fall.

Dated: September 18, 2015.
Daniel Tenney,
Deputy Associate Administrator, Office of the Mission Support Directorate.

National Aeronautics and Space Administration—Final Rule Stage
Sequence No. | Title | Regulation Identifier No.
378 | Processing of Monetary Claims (Section 610 Review) | 2700-AD83
379 | Discrimination on Basis of Disability in Federally Assisted and Federally Conducted Programs and Activities (Section 610 Review) | 2700-AD85
380 | NASA FAR Supplement, Safety and Health Measures and Mishap Reporting (Section 610 Review) | 2700-AE16
381 | NASA FAR Supplement Drug and Alcohol Free Workforce and Mission Critical Systems Personnel Reliability Program (Section 610 Review) | 2700-AE17
382 | NASA Protective Services Traffic Enforcement (Section 610 Review) | 2700-AE24

NATIONAL AERONAUTICS AND SPACE ADMINISTRATION (NASA)

Final Rule Stage

378. Processing of Monetary Claims (Section 610 Review)

Legal Authority: 31 U.S.C. sec 3711

Abstract: NASA is amending its regulations at 14 CFR 1261 to make non-substantive changes in the amount to collect installment payments from $20,000 to $100,000 to align with title 31 subchapter II Claims of the United States Government section 3711(a)(2) Collection and Compromise. Subpart 4 prescribes standards for the administrative collection compromise suspension or termination of collection and referral to the Government Accountability Office (GAO) and/or to the Department of Justice for litigation of civil claims as defined by 31 U.S.C. 3701(b) arising out of the activities of designated NASA officials authorized to effect actions and requires compliance with GAO/DOJ joint regulations at 4 CFR parts 101-105 and the Office of Personnel Management regulations at 5 CFR part 550 subpart K. There are also some statute citation and terminology updates. The revisions to this rule are part of NASA's retrospective plan under Executive Order 13563 completed in August 2011. NASA's full plan can be accessed at: http://www.nasa.gov/open.

Timetable:

Action | Date | FR Cite
Direct Final Rule | 03/00/16 |

Regulatory Flexibility Analysis Required: No.

Agency Contact: Laura Burns, Law Librarian, National Aeronautics and Space Administration, Office of the General Counsel, 300 E Street SW., Washington, DC 20546, Phone: 202 358-2078, Fax: 202 358-4955, Email: laura.burns-1@nasa.gov.

RIN: 2700-AD83

379. Discrimination on Basis of Disability in Federally Assisted and Federally Conducted Programs and Activities (Section 610 Review)

Legal Authority: 29 U.S.C. 794, sec 504 of the Rehabilitation Act of 1973, amended

Abstract: NASA is finalizing its regulations at 14 CFR 1251 for its section 504 regulations to incorporate changes to the definition of disability required by the Americans with Disabilities Act (ADA) Amendments Act of 2008, include an affirmative statement of the longstanding requirement for reasonable accommodations in programs, services, and activities, include a definition of direct threat and a provision describing the parameters of the existing direct threat defense to a claim of discrimination, clarify the existing obligation to provide auxillary aids and services to qualified individuals with disabilities, update the methods of communication that recipients may use to inform program beneficiaries of their obligation to comply with section 504 to reflect changes in technology, adopt updated accessibility standards applicable to the design, and construction, and alteration of buildings and facilities, establish time periods for compliance with these updated accessibility standards, provide NASA with access to recipient data and records to determine compliance with section 504, and make administrative updates to correct titles.

Timetable:

Action | Date | FR Cite
NPRM | 11/13/14 | 79 FR 67384
NPRM Comment Period End | 12/15/14 |
Final Rule | 03/00/16 |

Regulatory Flexibility Analysis Required: No.

Agency Contact: Robert W Cosgrove, External Compliance Manager, National Aeronautics and Space Administration, 300 E Street SW., Washington, DC 20546, Phone: 202 358-0446, Fax: 202 358-3336, Email: robert.cosgrove@nasa.gov.

RIN: 2700-AD85

380. NASA FAR Supplement, Safety and Health Measures and Mishap Reporting (Section 610 Review)

Legal Authority: Not Yet Determined

Abstract: NASA is finalizing its regulations at 48 CFR 1852.223 to revise a current clause related to safety and health measures and mishaps reporting by narrowing the application of the clause, resulting in a decrease in the reporting burden on contractors while reinforcing the measures contractors at NASA facilities must take to protect the safety of their workers, NASA employees, the public, and high value assets.

Timetable:

Action | Date | FR Cite
NPRM | 08/12/15 | 80 FR 48282
NPRM Comment Period End | 10/13/15 |
Final Rule | 03/00/16 |

Regulatory Flexibility Analysis Required: No.

Agency Contact: Manuel Quinones, Program Analyst, Office of Procurement, National Aeronautics and Space Administration, 300 E Street SW., Washington, DC 20746, Phone: 202 358-2143, Email: manuel.quinones@nasa.gov.

RIN: 2700-AE16

381. NASA FAR Supplement Drug and Alcohol Free Workforce and Mission Critical Systems Personnel Reliability Program (Section 610 Review)

Legal Authority: 51 U.S.C. 20113(c)

Abstract: NASA amended its regulations at 48 CFR 1823, 1846, and 1852 to remove requirements related to the discontinued Space Flight Mission Critical Systems Personnel Reliability Program and to revise requirements related to contractor drug and alcohol testing.

Timetable:

Action | Date | FR Cite
NPRM | 05/08/15 | 80 FR 26519
NPRM Comment Period End | 07/07/15 |
Final Rule | 10/07/15 | 80 FR 60552
Final Rule Effective | 11/06/15 |

Regulatory Flexibility Analysis Required: No.

Agency Contact: Manuel Quinones, Program Analyst, Office of Procurement, National Aeronautics and Space Administration, 300 E Street SW., Washington, DC 20746, Phone: 202 358-2143, Email: manuel.quinones@nasa.gov.

RIN: 2700-AE17

382. • NASA Protective Services Traffic Enforcement (Section 610 Review)

Legal Authority: 51 U.S.C. 20113; 18 U.S.C. 799; 5 U.S.C. 301

Abstract: NASA published a final rule in the Federal Register at 79 FR 54902 on September 15, 2014, to add subpart 11, Enforcing Traffic Laws at NASA Centers and Component Facilities, that establishes traffic enforcement regulations, authorities, and procedures at all NASA Centers and component facilities. NASA is amending these regulations to make nonsubstantive changes to correct citations, and to clarify the scope, policy, responsibilities, procedures, and violations described in these regulations. Amendments to this rule aligns part 1204 with NASA objectives in the protection of its people and property. The revisions to this rule are part of NASA's retrospective plan under Executive Order 13563 completed in August 2011.

Timetable:

Action | Date | FR Cite
Direct Final Rule | 12/00/15 |

Regulatory Flexibility Analysis Required: No.

Agency Contact: Charles Edward Lombard, Deputy Assistant Administrator, Office of Protective Services, National Aeronautics and Space Administration, NASA HQ 9V80, 300 E Street SW., Washington, DC 20546, Phone: 202 358-0891, Email: charles.e.lombard@nasa.gov.

RIN: 2700-AE24

[FR Doc. 2015-30662 Filed 12-14-15; 8:45 am]

BILLING CODE 7510-13-P